DEPARTMENT OF ENERGY

Federal Energy Regulatory Commission

Combined Notice of Filings #1

Take notice that the Commission received the following electric corporate filings:

Docket Numbers: EC19-16-000.

Applicants: CPV Towantic, LLC, Osaka Gas USA Corporation.

Description: Application for Authorization under Section 203 of the Federal Power Act, et al. of CPV Towantic, LLC, et al.

Filed Date: 10/26/18.

Accession Number: 20181026-5161.

Comments Due: 5 p.m. ET 11/16/18.

Take notice that the Commission received the following electric rate filings:

Docket Numbers: ER10-2732-015; ER10-2733-015; ER10-2734-015; ER10-2736-015; ER10-2737-015; ER10-2741-015; ER10-2749-015; ER10-2752-015; ER12-2492-011; ER12-2493-011; ER12-2494-011; ER12-2495-011; ER12-2496-011; ER16-2455-005; ER16-2456-005; ER16-2457-005; ER16-2458-005; ER16-2459-005; ER18-1404-001.

Applicants: Emera Energy Services Inc., Emera Energy U.S. Subsidiary No. 1, Inc., Emera Energy U.S. Subsidiary No. 2, Inc., Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 14 LLC, Emera Energy Services Subsidiary No. 15 LLC, NS Power Energy Marketing Inc.

Description: Notice of Change in Status of the Emera Entities.

Filed Date: 10/26/18.

Accession Number: 20181026-5162.

Comments Due: 5 p.m. ET 11/16/18.

Docket Numbers: ER18-1952-002.

Applicants: Gulf Power Company.

Description: Tariff Amendment: Gulf Power Deficiency Filing to be effective 12/31/9998. Also, on October 29, 2108 submitted Market Power Analysis (Excel Spreadsheet).

Filed Date: 10/26/18, 10/29/18.

Accession Number: 20181026-5139; 20181029-5000.

Comments Due: 5 p.m. ET 11/13/18.

Docket Numbers: ER18-2105-001.

Applicants: Arizona Public Service Company.

Description: Compliance filing: Service Agreement No. 218, Amendment No. 1 to be effective 7/1/2018.

Filed Date: 10/26/18.

Accession Number: 20181026-5152.

Comments Due: 5 p.m. ET 11/16/18.

Docket Numbers: ER18-2412-001.

Applicants: Midcontinent Independent System Operator, Inc.

Description: Tariff Amendment: 2018-10-29_SA 3164 LA3 West Baton Rouge-Entergy Louisiana GIA (J683) Sub Orig to be effective 8/27/2018.

Filed Date: 10/29/18.

Accession Number: 20181029-5066.

Comments Due: 5 p.m. ET 11/19/18.

Docket Numbers: ER19-200-000.

Applicants: Northern States Power Company, a Minnesota corporation.

Description: Notice of Cancellation of the Operation and Maintenance Agreement (Rate Schedule No. 499) of Northern States Power Company, a Minnesota corporation.

Filed Date: 10/26/18.

Accession Number: 20181026-5160.

Comments Due: 5 p.m. ET 11/16/18.

Docket Numbers: ER19-201-000.

Applicants: Pacific Gas and Electric Company.

Description: Notice of Termination of Eight Small Generator Interconnection Agreements of Pacific Gas and Electric Company.

Filed Date: 10/26/18.

Accession Number: 20181026-5164.

Comments Due: 5 p.m. ET 11/16/18.

Docket Numbers: ER19-202-000.

Applicants: Southwest Power Pool, Inc.

Description: § 205(d) Rate Filing: 3434R1 East Texas Electric Cooperative NITSA and NOA to be effective 10/1/2018.

Filed Date: 10/29/18.

Accession Number: 20181029-5039.

Comments Due: 5 p.m. ET 11/19/18.

Docket Numbers: ER19-203-000.

Applicants: Southwest Power Pool, Inc.

Description: § 205(d) Rate Filing: 3246R1 Tenaska Power and Montana-Dakota Utilities Att AO to be effective 10/1/2018.

Filed Date: 10/29/18.

Accession Number: 20181029-5046.

Comments Due: 5 p.m. ET 11/19/18.

Docket Numbers: ER19-204-000.

Applicants: Public Service Electric and Gas Company, PJM Interconnection, L.L.C.

Description: § 205(d) Rate Filing: PSEG submits revisions to OATT, Att. H-10A re: Tax Cut Jobs Act to be effective 1/1/2019.

Filed Date: 10/29/18.

Accession Number: 20181029-5054.

Comments Due: 5 p.m. ET 11/19/18.

Docket Numbers: ER19-205-000.

Applicants: Dearborn Industrial Generation, L.L.C.

Description: Initial rate filing: DIG TSA 205 Filing to be effective 12/28/2018.

Filed Date: 10/29/18.

Accession Number: 20181029-5064.

Comments Due: 5 p.m. ET 11/19/18.

Docket Numbers: ER19-206-000.

Applicants: Alabama Power Company.

Description: § 205(d) Rate Filing: Pinehurst Solar LGIA Filing to be effective 10/15/2018.

Filed Date: 10/29/18.

Accession Number: 20181029-5072.

Comments Due: 5 p.m. ET 11/19/18.

Docket Numbers: ER19-207-000.

Applicants: Xcel Energy Transmission Development Company, LLC.

Description: Request of Xcel Energy Transmission Development Company, LLC for Authorization to Replicate the XETD Formula Rate and Incentives.

Filed Date: 10/26/18.

Accession Number: 20181026-5179.

Comments Due: 5 p.m. ET 11/16/18.

Docket Numbers: ER19-208-000.

Applicants: PacifiCorp.

Description: Tariff Cancellation: Termination of Tri-State Construct Agmt ? Monolith Tap IC to be effective 1/9/2019.

Filed Date: 10/29/18.

Accession Number: 20181029-5100.

Comments Due: 5 p.m. ET 11/19/18.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 29, 2018.
Nathaniel J. Davis, Sr.,
Deputy Secretary.

[FR Doc. 2018-24025 Filed 11-1-18; 8:45 am]

BILLING CODE 6717-01-P